PEACE CORPS

Information Collection Request; Submission for OMB Review

AGENCY: Peace Corps.

ACTION: 60-day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 USC Chapter 35).

DATES: Comments must be submitted on or before April 1, 2014.

ADDRESSES: Comments should be addressed to Denora Miller, FOIA/Privacy Act Officer, Peace Corps, 1111 20th Street, NW., Washington, DC 20526. Denora Miller can be contacted by telephone at 202-692-1236 or email at pcfr@peacecorps.gov. Email comments must be made in text and not in attachments.

FOR FURTHER INFORMATION CONTACT: Denora Miller at Peace Corps address above.

SUPPLEMENTARY INFORMATION: Within the purview of Coverdell World Wise Schools, the Speakers Match program connects an educator with a returned Peace Corps Volunteer to present about his/her overseas experience. The interaction between the returned Volunteer, the educator, and his or her students is used to foster classroom activities and learning experiences relating to the Volunteer's country of service and the Peace Corps. In order to participate in the program and be matched with a returned Volunteer, the educator must complete the Speakers Match Online Request Form. This form is available on the Peace Corps World Wise Schools Web site under the Speakers Match section.

Title: World Wide Schools- Speakers Match: Request for a Speaker.

OMB Control Number: 0420-0539.

Type of Request: Extension without change of a currently approved collection.

Affected Public: Individuals and households.

Respondents Obligation to Reply: Voluntary.

Burden to the Public

a. Estimated number of respondents 300

b. Estimated average burdern per response: 10 minutes

c. Frequency of response: One time

d. Annual reporting burden: 50 hours

e. Estimated annual cost to respondents: $0.00

General Description of Collection: The Speakers Match Online Request Form is the first point of contact with the participating educator. The information is used to make a suitable match between the educator and a returned Peace Corps Volunteer. The information will be collected as a one-time submission on a continuous basis and with permission may be shared with the media, Congress, returned Volunteer groups, educational institutions, and other government agencies.

Request For Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on January 24, 2014.
Denora Miller,
FOIA/Privacy Act Officer, Management.

[FR Doc. 2014-01945 Filed 1-30-14; 8:45 am]

BILLING CODE 6051-01-P